DEPARTMENT OF TRANSPORTATION

National Highway Traffic Safety Administration

[Docket No. NHTSA-2000-8201; Notice 2]

Subaru of America, Inc.; Grant of Application for Decision of Inconsequential Noncompliance

Subaru of America, Inc. (Subaru) has determined that certain headlamp assemblies manufactured by North American Lighting, Inc., do not comply with requirements contained in Federal Motor Vehicle Safety Standard (FMVSS) No. 108, “Lamps, Reflective Devices, and Associated Equipment,” and has filed an appropriate report pursuant to 49 CFR part 573, “Defect and Noncompliance Reports.” Subaru has also applied to be exempted from the notification and remedy requirements of 49 U.S.C. chapter 301—“Motor Vehicle Safety” on the basis that the noncompliance is inconsequential to motor vehicle safety.

Notice of receipt of the application was published in the Federal Register (65 FR 66584) on November 6, 2000. Opportunity was afforded for public comment until December 6, 2000. No comments were received.

Paragraph S7.5(g) of FMVSS No. 108 states that “the lens of each replaceable bulb headlamp shall bear permanent marking in front of each replaceable light source with which it is equipped that states the HB Type.”

Paragraph S7.8.5.3(f)(1) of FMVSS No. 108 states that the lens shall have “a mark or markings identifying the optical axis of the headlamp visible from the front of the headlamp when installed on the vehicle, to assure proper horizontal and vertical alignment of the aiming screen or optical aiming equipment with the headlamp being aimed.”

Subaru installed approximately 87 headlamp lens assemblies on model year 2000 Subaru Legacy and Outback vehicles from October 5, 1999, through December 5, 1999, which were incorrectly marked. Lenses marked for two-bulb lamp assemblies were placed on one-bulb assemblies, while lenses marked for one-bulb lamp assemblies were placed on two-bulb assemblies.

Subaru supports its application for inconsequential noncompliance with the following statements:

Headlamp aiming performed during the manufacturing process does not rely on lens marking for beam pattern alignment. The result is proper alignment regardless of the mismatch in headlamp assembly lens.

The rate of replacement for headlamp bulbs within the 3/36 warranty period is 0.6 percent. The remaining parts demand for headlamp bulbs is due to collision which results in purchase and installation of new headlamp assemblies not containing the noncompliance.

Installation of replacement headlamp bulbs is outlined in the Service Manual for Subaru Legacy vehicles. The Service Manual procedure for alignment of the headlamp does not rely on the markings found in noncompliance, but rather references the center marking on the bulb.

Incorrect lens assembly installation results in the following light performance variations:

Two-bulb lens on one-bulb assembly: slight decrease in long range visibility, but within FMVSS performance requirements

One-bulb lens on two-bulb assembly: slight broadening of the beam pattern. Vertical alignment specification variation does not exceed 0.57 degrees plus/minus specified aiming.

There is a small possibility that consumers would purchase replacement bulbs for non-dealer installation based on the incorrect marking. However, the incorrect bulb will not install in the headlamp assembly irrespective of the incorrect marking. Additionally, the owner's manual provides the correct specification for replacement bulbs required.

Subaru also submitted data which show the difference in beam patterns of the four possible bulb combinations in the two lamp housings. The data are in the docket.

The petitioner states that the noncompliances will not result in any safety, reliability or serviceability concern for the operator of a subject motor vehicle.

We have reviewed the application and agree with Subaru that the noncompliance is inconsequential to motor vehicle safety. The lamps are fully compliant with the performance requirements of the standard regardless of which lens is used. Further, the bulbs for the one-bulb assembly cannot be used in the two-bulb assembly and vice versa. Therefore, even if a vehicle owner purchases a bulb based on the incorrect information given on the lens, it will not fit.

Regarding the marking of the optical axis for aiming, because headlamp aiming during the vehicle manufacturing process does not rely on this mark, the lamps will be correctly aimed when the vehicle is delivered for sale. Further, the service manual procedure for aim alignment does not rely on this mark. It references the center of the bulb. If the lamps are vertically aimed by consumers, Subaru states that there can be a 0.57 degree error, given the unintended vertical displacement of the lens' optical axis mark. If a person attempts to aim a subject headlamp using the incorrectly placed mark, the lamp will be aimed upward or downward by that angular amount, depending on which lamp and which lens is installed. Because field aiming is more often done using the Society of Automotive Engineers (SAE) recommended aiming tolerance of ± 4 inches at 25 feet (about 0.75 degree), the misaim caused by the incorrect location of the aiming mark on the lens should be within the recommended field aiming tolerance. As a result, there should be no consequence to safety.

In consideration of the foregoing, we have decided that the applicant has met its burden of persuasion that the noncompliance described above is inconsequential to motor vehicle safety. Therefore, its application is granted, and the applicant is exempted from providing the notification of the noncompliance that is required by 49 U.S.C. 30118 and 30119 and from remedying the noncompliance as required by 49 U.S.C. 30120.

(49 U.S.C. 30118(d) and 30120(h); delegations of authority at 49 CFR 1.50 and 501.8)

Issued on: April 3, 2001.
Stephen R. Kratzke,
Associate Administrator for Safety Performance Standards.

[FR Doc. 01-8512 Filed 4-5-01; 8:45 am]

BILLING CODE 4910-59-P